DEPARTMENT OF HOMELAND SECURITY

Office of the Secretary

[Docket No. DHS-2008-0126]

Privacy Act of 1974; Federal Emergency Management Agency-005 Temporary and Permanent Relocation and Personal and Real Property Acquisitions and Relocation Files System of Records

AGENCY: Privacy Office; DHS.

ACTION: Notice of Privacy Act system of records.

SUMMARY: In accordance with the Privacy Act of 1974 and as part of the Department of Homeland Security's ongoing effort to review and update legacy system of records notices, the Department of Homeland Security is giving notice that it proposes to update and reissue the following legacy record system: FEMA/State and Local Programs and Support (SLPS)-6 Temporary and Permanent Relocation and Personal and Real Property Acquisitions and Relocation Files (September 7, 1990) as a Department of Homeland Security system of records notice titled, Department of Homeland Security Federal Emergency Management Agency—005 Temporary and Permanent Relocation and Personal and Real Property Acquisitions and Relocation Files. Categories of individuals, categories of records, and the routine uses of this legacy system of records notice have been reviewed updated to better reflect the Department of Homeland Security's Federal Emergency Management Agency—005 Temporary and Permanent Relocation and Personal and Real Property Acquisitions and Relocation Files. This new system will be included in the Department of Homeland Security's inventory of record systems.

DATES: Written comments must be submitted on or before January 20, 2009. This new system will be effective January 20, 2009.

ADDRESSES: You may submit comments, identified by docket number DHS-2008-0126 by one of the following methods:

• Federal e-Rulemaking Portal:http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change and may be read at http://www.regulations.gov, including any personal information provided.

• Docket: For access to the docket, to read background documents, or comments received, go to http://www.regulations.gov.

FOR FURTHER INFORMATION CONTACT: For general questions please contact: Federal Emergency Management Agency Privacy Officer, Federal Emergency Management Agency. For privacy issues please contact: Hugo Teufel III (703-235-0780), Chief Privacy Officer, Privacy Office, U.S. Department of Homeland Security, Washington, DC 20528.

SUPPLEMENTARY INFORMATION:

I. Background

Pursuant to the savings clause in the Homeland Security Act of 2002, Public Law 107-296, Section 1512, 116 Stat. 2310 (November 25, 2002), the Department of Homeland Security (DHS)/Federal Emergency Management Agency (FEMA) have relied on preexisting Privacy Act systems of records notices for the collection and maintenance of records that concern DHS/FEMA—005 Temporary and Permanent Relocation and Personal and Real Property Acquisitions and Relocation Files.

As part of its efforts to streamline and consolidate its record systems, DHS is updating and reissuing a system of records under the Privacy Act (5 U.S.C. 552a) that deals with the DHS/FEMA—005 Temporary and Permanent Relocation and Personal and Real Property Acquisitions and Relocation Files. This record system will allow DHS/FEMA to collect and maintain records regarding individual properties that qualify for acquisition and/or relocation under the Comprehensive Environmental Response Compensation Liability Act of 1980, as amended, and National Flood Insurance Act as amended, 42 U.S.C. 4001. The collection and maintenance of this information will assist DHS/FEMA in tracking individual properties that qualify for acquisition and/or relocation under these Acts.

In accordance with the Privacy Act of 1974 and as part of DHS's ongoing effort to review and update legacy system of records notices, DHS is giving notice that it proposes to update and reissue the following legacy record system FEMA/SLPS-6 Temporary and Permanent Relocation and Personal and Real Property Acquisitions and Relocation Files (55 FR 37182 September 7, 1990) as a DHS system of records notice titled DHS/FEMA—005 Temporary and Permanent Relocation and Personal and Real Property Acquisitions and Relocation Files. DHS has reviewed the categories of individuals and categories of records, and has updated the routine uses of this legacy system of records notice to better reflect DHS/FEMA—005 Temporary and Permanent Relocation and Personal and Real Property Acquisitions and Relocation Files. This new system will be included in DHS's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR part 5.

The Privacy Act requires each agency to publish in the Federal Register a description denoting the type and character of each system of records that the agency maintains, and the routine uses that are contained in each system in order to make agency record keeping practices transparent, to notify individuals regarding the uses of their records, and to assist individuals to more easily find such files within the agency. Below is the description of the DHS/FEMA—005 Temporary and Permanent Relocation and Personal and Real Property Acquisitions and Relocation Files System of Records.

In accordance with 5 U.S.C. 552a(r), DHS has provided a report of this new system of records to the Office of Management and Budget and to Congress.

System of Records: DHS/FEMA-005

System name:

Federal Emergency Management Agency—005 Temporary and Permanent Relocation and Personal and Real Property Acquisitions and Relocation Files.

Security classification:

Unclassified.

System location:

Records are maintained at the Federal Emergency Management Agency Headquarters in Washington, DC and field offices.

Categories of individuals covered by the system:

Categories of individuals covered by this system include individuals whose real property has been, or is being, acquired by DHS/FEMA. Also included are individuals who have been, or are being, relocated by DHS/FEMA.

Categories of records in the system:

Categories of records in this system include:

• Individual's name;

• Taxpayer identification number/social security number;

• Amounts paid for purchase of property including records of negotiations and offers;

• Title search documentation including property titles, title company correspondence, closing papers, tax records, and contracts;

• Loan interest payment information including mortgage payment papers, loan documentation claims, and DHS/FEMA approvals;

• Information for determining benefit amounts for real property acquisition including tax records, mortgage information, and divorce decrees;

• Information concerning replacement housing determinations including tax information, affidavits, and determinations;

• Relocation claims payment information including documents which verify that funds have been spent, deeds, contracts, building estimates, construction bills, loan papers, leases, cancelled checks, claim forms, and Decent, Safe and Sanitary Inspection Forms;

• Deeds, contractual sale documents, notations of follow-up actions, appraiser qualifications, rent supplement information, insurance verifications, moving cost information, permanent relocation questionnaires including background information on displaced persons, and information supplied by displaced persons to support claims for real property acquisition and relocation assistance. The temporary relocation file may contain the following:

○ Applicant contact sheets;

○ Application for assistance;

○ Leases and/or reimbursement agreements and corresponding housing inspection reports;

○ Requests for payment with supporting bills, receipts, etc., for relocation expenses and payment records to individuals and businesses; and

○ Move-out records.

Authority for maintenance of the system:

Federal Records Act, 44 U.S.C. 3101; Comprehensive Environmental Response Compensation Liability Act (CERCLA) of 1980, 42 U.S.C. 9601 et seq.; Executive Order 12580; Uniform Relocation Assistance and Real Property Acquisition Policies Act, 42 U.S.C. 4601 et seq.; National Flood Insurance Act of 1968 and Flood Disaster Protection Act of 1973, 42 U.S.C. 4001, et seq. and Executive Order 9397.

Purpose(s):

The purpose of this system is to track individual properties that qualify for acquisition and/or relocation under the Comprehensive Environmental Response Compensation Liability Act of 1980, as amended, and the National Flood Insurance Act, 42 U.S.C. 4001, as amended.

Routine uses of records maintained in the system, including categories of users and the purposes of such uses:

In addition to those disclosures generally permitted under 5 U.S.C. 552a(b) of the Privacy Act, all or a portion of the records of information contained in this system may be disclosed outside DHS as a routine use pursuant to 5 U.S.C. 552a(b)(3) as follows:

A. To the Department of Justice or other Federal agency conducting litigation or in proceedings before any court, adjudicative or administrative body, when it is necessary to the litigation and one of the following is a party to the litigation or has an interest in such litigation:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To the affected State or political subdivision thereof for the purpose of determining the State's or subdivision's eligibility for tracking title to the acquired property for recreational and open space resources.

I. To the Environmental Protection Agency for the purpose of verifying the proper eligibility and use of Superfund monies to acquire properties found to be uninhabitable for the population and in connection with legal cases brought under the Superfund.

J. To the Small Business Administration for the purpose of determining the individual/business eligibility for loans and no duplication of funds.

K. To the Department of Justice, or a United States Attorney for legal representation in duplication of benefits provided to the individual or legal cases brought by or against FEMA, or in the case of Superfund monies, those brought by or against the Environmental Protection Agency.

L. To the Department of Justice for the purpose of obtaining official title opinions prior to acquisition as outlined under Section 1362 acquisitions.

M. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

Disclosure pursuant to 5 U.S.C. 552a(b)(12): Disclosures may be made from this system to “consumer reporting agencies” as defined in the Fair Credit Reporting Act (15 U.S.C. 1681a(f) or the Federal Claims Collection Act of 1966 (31 U.S.C. 3701(a)(3)).

Policies and practices for storing, retrieving, accessing, retaining, and disposing of records in the system:

Storage:

Records in this system are stored electronically or on paper in secure facilities in a locked drawer behind a locked door. The records are stored on magnetic disc, tape, digital media, and CD-ROM.

Retrievability:

Records may be retrieved by individual's name, property addresses, mobile home sales documents, leases, and contracts.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

Permanent Personal and Real Property Acquisition and Relocation records are covered by General Record Schedules 3 and 4. Original files regarding occupant-related documents (e.g., site requests, mobile home sales documents, leases, and contracts) will be consolidated at regional offices at the end of Phase II (e.g., when shelterees are moved to permanent housing) and destroyed 6 years and 3 months after files are consolidated in accordance with FEMA Record Schedule N1-311-86-1, Item 4C8b(1). Files relating to permanent relocations under Superfund and purchases of properties under Section 1362 are permanent and will be maintained in accordance with FEMA Records Schedule N1-311-86-1, Item 4C10d.

System Manager and address:

For Superfund acquisitions—Associate Director, State and Local Programs and Support Directorate, Federal Emergency Management Agency, Washington, DC 20472.

Notification procedure:

Individuals seeking notification of and access to any record contained in this system of records, or seeking to contest its content, may submit a request in writing to FEMA's FOIA Officer, 500 C Street, SW., Attn: FOIA Coordinator, Washington, DC 20472.

When seeking records about yourself from this system of records or any other FEMA system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Specify when you believe the records would have been created,

• If your request is seeking records pertaining to another living individual, you must include a statement from that individual certifying his/her agreement for you to access his/her records.

Without this bulleted information the FEMA may not be able to conduct an effective search, and your request may be denied due to lack of specificity or lack of compliance with applicable regulations.

Record access procedures:

See “Notification procedure” above.

Contesting record procedures:

See “Notification procedure” above.

Record source categories:

Individuals, appraisal records, title reports, or homeowner reports.

Exemptions claimed for the system:

None.

Dated: December 10, 2008.
Hugo Teufel III,
Chief Privacy Officer, Department of Homeland Security.

[FR Doc. E8-29796 Filed 12-18-08; 8:45 am]

BILLING CODE 4410-10-P